DEPARTMENT OF THE TREASURY

United States Mint

Pricing for 2010 United States Mint America the Beautiful Quarters Silver Proof Set™, etc.

ACTION: Pricing for 2010 United States Mint America the Beautiful Quarters Silver Proof Set™; 2010 United States Mint Silver Proof Set™; 2011 United States Mint America the Beautiful Quarters Silver Proof Set™.

SUMMARY: The United States Mint is announcing an increase in the price of the 2010 United States Mint America the Beautiful Quarters Silver Proof Set, the 2010 United States Mint Silver Proof Set and the 2011 United States Mint America the Beautiful Quarters Silver Proof Set.

In accordance with 31 U.S.C. 9701(b)(2)(B), the United States Mint is setting the price of these products to reflect recent increases in the market price of silver.

The 2010 United States Mint America the Beautiful Quarters Silver Proof Set will be priced at $39.95.

The 2010 United States Mint Silver Proof Set will be priced at $64.95.

The 2011 United States Mint America the Beautiful Quarters Silver Proof Set will be priced at $41.95.

FOR FURTHER INFORMATION CONTACT: B. B. Craig, Associate Director for Sales and Marketing; United States Mint; 801 9th Street, NW., Washington, DC 20220, or call 202-354-7500.

Authority: 31 U.S.C. 5111, 5112, 5132 & 9701.

Dated: March 14, 2011.
Richard A. Peterson,
Acting Director, United States Mint.

[FR Doc. 2011-6344 Filed 3-17-11; 8:45 am]

BILLING CODE P